DEPARTMENT OF COMMERCE

National Oceanic and Atmospheric Administration

50 CFR Part 679

[Docket No. 060216045-6045-01; I.D. 030306A]

Fisheries of the Exclusive Economic Zone Off Alaska; Reallocation of Pollock from the Aleutian Islands Subarea to the Bering Sea Subarea

AGENCY: National Marine Fisheries Service (NMFS), National Oceanic and Atmospheric Administration (NOAA), Commerce.

ACTION: Temporary rule; reallocation.

SUMMARY: NMFS is reallocating the projected unused amounts of Community Development Quota (CDQ) and non-CDQ pollock from the Aleutian Islands subarea to the Bering Sea subarea. These actions are necessary to provide opportunity for harvest of the 2006 total allowable catch (TAC) of pollock, consistent with the goals and objectives of the Fishery Management Plan for Groundfish of the Bering Sea and Aleutian Islands Management Area (FMP).

DATES: Effective March 3, 2006, through 2400 hrs, Alaska local time (A.l.t.), December 31, 2006.

FOR FURTHER INFORMATION CONTACT: Josh Keaton, 907-586-7228.

SUPPLEMENTARY INFORMATION: NMFS manages the groundfish fishery in the BSAI according to the FMP prepared by the North Pacific Fishery Management Council under authority of the Magnuson-Stevens Fishery Conservation and Management Act. Regulations governing fishing by U.S. vessels in accordance with the FMP appear at subpart H of 50 CFR part 600 and 50 CFR part 679.

In the Aleutian Islands subarea, the 2006 A season allowance of non-CDQ pollock is 9,800 metric tons (mt) and the CDQ pollock is 760 mt as established by the 2006 and 2007 final harvest specifications for groundfish in the BSAI (71 FR 10894, March 3, 2006), for the period 1200 hrs, A.l.t., January 1, 2006, through 1200 hrs, A.l.t., June 10, 2006.

As of March 1, 2006, the Administrator, Alaska Region, NMFS, (Regional Administrator) has determined that the following A season apportionments of pollock in the Aleutian Islands subarea will not be harvested: 5,800 of non-CDQ pollock and 760 mt of CDQ pollock. Therefore, in accordance with § 679.20(a)(5)(iii)(B)(4), NMFS proportionally reallocates 5,800 mt of non-CDQ pollock and 760 mt of CDQ pollock from the Aleutian Islands subarea to the 2006 Bering Sea subarea A season allocations, as listed in Tables 3,10, and 11 of the 2006 and 2007 final harvest specifications for groundfish in the BSAI (71 FR 10894, March 3, 2006).

The A season harvest specifications for pollock in the Aleutian Islands subarea included in the harvest specifications for groundfish in the BSAI (71 FR 10894, March 3, 2006) are revised as follows: 4,000 mt to the A season allowance of non-CDQ pollock and 0 mt to the A season allowance of CDQ pollock.

Pursuant to § 679.20(a)(5), Tables 3,10, and 11 of the 2006 and 2007 final harvest specifications for groundfish in the BSAI (71 FR 10894, March 3, 2006) are revised for the 2006 A season non-CDQ pollock and the A season CDQ pollock allocations consistent with this reallocation. This reallocation results in proportional adjustments to the 2006 A season non-CDQ pollock directed fishery allocation (DFA) established at § 679.20(a)(5).

BILLING CODE 3510-22-S

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Aleutian Islands subarea pollock to the Bering Sea subarea. On March 1, 2006, NMFS was notified by the Aleut Corporation and the CDQ groups that some of the pollock allocations in the Aleutian Islands subarea will not be harvested. Since the A season is currently open, it is important to immediately inform the industry as to the final Bering Sea subarea A season allocations. Immediate notification is necessary to allow for the orderly conduct and efficient operation of this fishery; allow the industry to plan for the fishing season and avoid potential disruption to the fishing fleet as well as processors; and provide opportunity to harvest increased A season pollock allocations while roe quality and value are optimum.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: March 3, 2006.
James P. Burgess,
Acting Director of Sustainable Fisheries, National Marine Fisheries Service.

[FR Doc. 06-2186 Filed 3-3-06; 2:38 pm]

BILLING CODE 3510-22-C